ENVIRONMENTAL PROTECTION AGENCY

[EPA-HQ-OA-2013-0320; FRL-9810-5]

Technical Guidance for Assessing Environmental Justice in Regulatory Analysis

AGENCY: Environmental Protection Agency (EPA).

ACTION: Announcement of issuance of draft guidance for public comment.

SUMMARY: The Environmental Protection Agency (EPA) has issued for public comment a document entitled, “Technical Guidance for Assessing Environmental Justice in Regulatory Analysis.” The purpose of this guidance is to provide EPA analysts with technical information on how to consider environmental justice in regulatory analyses. This guidance takes into account EPA's past experience in integrating EJ into the rulemaking process, and underscores EPA's ongoing commitment to ensuring the fair treatment and meaningful involvement of all people with respect to the development, implementation, and enforcement of environmental laws, regulations, and policies.

A Science Advisory Board (SAB) review of this document will be announced in May 2013. Information on the SAB review can be found here: http://yosemite.epa.gov/sab/sabproduct.nsf/02ad90b136fc21ef85256eba00436459/0f7d1a0d7d15001b8525783000673ac3!OpenDocument&TableRow=2.0#2.

In addition, the EPA will host two webinars on the draft guidance.

Wednesday, May 29, 1:00-2:30 p.m. EST; https://epa.connectsolutions.com/r4nnz6umjci/.

Thursday, June 6, 3:00-4:30 p.m. EST; https://epa.connectsolutions.com/r8fs6ctfovg/.

DATES: Comments must be received on or before July 8, 2013, 60 days after publication in the Federal Register.

ADDRESSES: Submit your comments, identified by Docket ID No. EPA-HQ-OA-2013-0320 by one of the following methods:

• www.regulations.gov: Follow the on-line instructions for submitting comments.

• Email: maguire.kelly@epa.gov.

• Fax: 202-566-2363.

• Mail: Technical Guidance for Assessing Environmental Justice in Regulatory Analysis, Environmental Protection Agency, Mailcode: 1890T, 1200 Pennsylvania Ave. NW., Washington, DC 20460.

• Hand Delivery: EPA West, Room 3334, 1301 Constitution Ave. NW., Washington, DC. Such deliveries are only accepted during the Docket's normal hours of operation, and special arrangements should be made for deliveries of boxed information.

Instructions: Direct your comments to Docket ID No. EPA-HQ-OA-2013-0320. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Technical Guidance for Assessing Environmental Justice in Regulatory Analysis Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Technical Guidance for Assessing Environmental Justice in Regulatory Analysis is (202) 566-2273.

FOR FURTHER INFORMATION CONTACT: Dr. Kelly Maguire, Office of Policy, National Center for Environmental Economics, Mail code 1809T, Environmental Protection Agency, 1200 Pennsylvania Ave. NW., Mail code 1809T, Washington, DC 20460; telephone number: 202-566-2273; fax number: 202-566-2363; email address: maguire.kelly@epa.gov.

SUPPLEMENTARY INFORMATION: The Technical Guidance for Assessing Environmental Justice in Regulatory Analysis is available in the public docket for this notice. The docket can be viewed online at www.regulations.gov or in person at the EPA Docket Center, EPA West, Room 3334, 1301 Constitution Ave. NW., Washington, DC. The telephone number for the Docket Center is 202-566-1744. For additional information about EPA's public docket, visit http://www.epa.gov/dockets.

I. General Information

The Technical Guidance for Assessing Environmental Justice in Regulatory Analysis begins to address the issue of how to analytically consider environmental justice in regulatory analyses. It directs EPA analysts to assess whether potential environmental justice (EJ) concerns exist prior to the rulemaking and whether such concerns are likely to be exacerbated or mitigated for each regulatory option under consideration. The guidance makes recommendations designed to ensure consistency across EPA assessments of potential EJ concerns for regulatory actions. The recommendations encourage analysts to conduct the highest quality analysis feasible, recognizing that data limitations, time and resource constraints, and analytic challenges will vary by media and circumstance. They are not designed to be prescriptive and do not mandate the use of a specific approach. No new risk assessment or socio-economic assessment methods are required, thus minimizing resource or analytical burdens. This guidance takes into account EPA's past experience in integrating EJ into the rulemaking process, and underscores EPA's ongoing commitment to ensuring the fair treatment and meaningful involvement of all people with respect to the development, implementation, and enforcement of environmental laws, regulations, and policies. This guidance will enable EPA to conduct better analysis of regulations which will ultimately enable EPA to make better decisions.

II. What should I consider as I prepare my comments for EPA?

1. Submitting CBI. Do not submit this information to EPA through www.regulations.gov or email. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

Dated: May 2, 2013.
Michael L. Goo,
Associate Administrator, Office of Policy.

[FR Doc. 2013-11165 Filed 5-8-13; 8:45 am]

BILLING CODE 6560-50-P